DEPARTMENT OF DEFENSE

Defense Logistics Agency

Notice of Proposed Solicitation for Cooperative Agreement Applications

AGENCY: Defense Logistics Agency, DOD.

ACTION: Proposed solicitation for cost sharing cooperative agreement applications.

SUMMARY: On March 18, 2003, the Defense Logistics Agency (DLA) issued a solicitation for cooperative agreement applications (SCAA) to assist state and local governments and other nonprofit eligible entities in establishing or maintaining procurement technical assistance centers (PTACs) pursuant to chapter 142, title 10, United States Code. These centers help business firms market their products and service to the Department of Defense (DoD), other federal agencies, and state and/or local government agencies. Cooperative agreement awards made as a result of applications submitted in response to this solicitation contained provisions for the award of additional option awards through 2007. DLA now intends to issue another solicitation as a follow-on action to the March 18, 2003, SCAA in order to maintain continuity of the Procurement Technical Assistance Program. This solicitation, when issued, will govern the submission of applications for calendar year 2008, and will provide for option period awards for 2009 and 2010. This proposed SCAA, which contains a number of changes from the March 18, 2003 SCAA, can be found on-line at http://www.dla.mil/db/draft2008scaa.pdf and is currently available for review. Printed copies are not available for distribution.

You are invited to submit written comments concerning this proposed SCAA to: Headquarters, Defense Logistics Agency, Office of Small Business Programs, 8725 John J. Kingman Road, Suite 1127, Ft. Belvoir, VA 22060-6221. Attn: Grants Officer.

All comments must be received by March 26, 2008, in order for them to be considered. DLA intends to post the finalized SCAA on the Internet in early April 2008. A future notice to be published in Grants.gov will announce this posting along with details on how to submit applications.

FOR FURTHER INFORMATION CONTACT: Mr. Robert Little at (703) 767-1664.

Peg A. Meehan,
Director, Office of Small Business Programs.

[FR Doc. E8-4465 Filed 3-7-08; 8:45 am]

BILLING CODE 3620-01-M